COMMISSION ON CIVIL RIGHTS

Agenda and Notice of Public Meeting of the New York Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the New York Advisory Committee to the Commission will convene by conference call, on Wednesday, June 24, 2020 at 9:30 a.m. (EST). The purpose of the meeting is to introduce the reappointed chair and newly appointed members to the Committee and discuss civil rights issues in the state.

DATES: Wednesday, June 24, 2020 at 9:30 a.m. (EST).

Call-In Information: 1(206) 800-4892 and conference call ID: 249029919#.

FOR FURTHER INFORMATION CONTACT: David Barreras at dbarreras@usccr.gov or (202) 499-4066.

SUPPLEMENTARY INFORMATION: This meeting is available to the public through the telephone number and conference ID listed above. Callers can expect to incur charges for calls they initiate over wireless lines, and the Commission will not refund any incurred charges. Persons with hearing impairments may also follow the proceedings by first calling the Federal Relay Service at 1-800-877-8339 and providing the Service with the conference call-in numbers: 1-206-800-4892 and conference call ID: 249029919#.

Members of the public are entitled to make comments during the open period at the end of the meeting. Members of the public may also submit written comments; the comments must be received in the Regional Programs Unit within 30 days following the respective meeting. Written comments may be emailed to dbarreras@usccr.gov. Persons who desire additional information may contact the Regional Programs Unit at 202-499-4066. Records and documents discussed during the meeting will be available for public viewing as they become available at https://www.facadatabase.gov/FACA/apex/FACAPublicCommittee?id=a10t0000001gzmAAAQ click the “Meeting Details” and “Documents” links. Records generated from this meeting may also be inspected and reproduced at the Midwestern Regional Office, as they become available, both before and after the meetings. Persons interested in the work of this advisory committee are advised to go to the Commission's website, www.usccr.gov, or to contact the Midwestern Regional Office at the above phone number or email.

Agenda

I. Welcome and Roll Call

II. Introduction of the reappointed chair and newly appointed members to the Committee

III. Discussion: Civil Rights Issues in the State

IV. Public Comment

V. Adjournment

Dated: June 18, 2020.
David Mussatt,
Supervisory Chief, Regional Programs Unit.

[FR Doc. 2020-13567 Filed 6-23-20; 8:45 am]

BILLING CODE P